DEPARTMENT OF HEALTH AND HUMAN SERVICES

National Institutes of Health

Office of the Director; Notice of Call for Applications for the Director's Council of Public Representatives

AGENCY: National Institutes of Health, HHS.

ACTION: Notice.

SUMMARY: The National Institutes of Health (NIH), the Federal government's primary agency for supporting and conducting medical research leading to the improvement in the nation's health, has established a national advisory council—the Director's Council of Public Representatives (COPR). The Chair of the COPR is the Director of the NIH. This notice describes the process for the selection of new members of the COPR that the NIH will use, as current members complete their terms.

DATES: The application deadline for the COPR is September 16, 2002—all applications must be postmarked on or before September 16, 2002; the notification of selection date is January 2003; the term start date is April 1, 2003; and the first COPR meeting date for new members is April 20 and 21, 2003.

FOR FURTHER INFORMATION CONTACT: NIH Director's Council of Public Representatives (COPR), c/o Palladian Partners, Inc., 1010 Wayne Avenue, Suite 1200, Silver Spring, MD, 20910, telephone (301) 650-8600, fax (301) 650-8676, e-mail COPR@palladianpartners.com. If you are interested in serving as a member of the COPR, please contact Palladian Partners, Inc., to have an application mailed to you or go on-line to http://public-council.nih.gov/COPRapplication.asp to access the COPR application instructions. If you have questions about your application or the submission process, please feel free to contact the staff working on this project by mail, telephone, fax, or e-mail, as indicated in the above information.

ADDRESSES: Please mail your application to NIH Director's Council of Public Representatives (COPR), c/o Palladin Partners, Inc., 1010 Wayne Avenue, Suite 1200, Silver Spring, MD, 20910, telephone (301) 650-8660, fax (301) 650-8676, e-mail COPR@palladianpartners.com.

SUPPLEMENTARY INFORMATION: The Director of the NIH created the COPR in 1999 as an important forum for information exchange between the public and the NIH at the highest level. The COPR consists of up to 21 individuals who are selected from among the way diverse communities that benefit from, and have an interest in, NIH research, programs, and activities. The COPR is an important avenue for representatives of the public to advise the NIH Director on the viewpoints, input, and feedback of the broader public regarding emerging health and science priorities identified by the NIH Director and/or the COPR. COPR members also serve as NIH ambassadors by taking information from the NIH back to the broader public. COPR terms are typically three years.

The minimum eligibility criteria are that the applicant must:

• Have some interest in the work of the NIH (such as being a patient or family member of a patient; a care giver; or a volunteer in the health or science arena; a scientist or student of science; a health communicator, educator or professional in the medical field, but certainly not limited to these examples).

• Be in a position (formally or informally) to communicate regularly with the broader public or segments of the public about the activities of the COPR and the NIH.

• Commit to participating fully in activities of the COPR, including COPR meeting discussions and conference calls, outreach activities, and subcommittee and/or/working group activities that will take time in addition to COPR meeting attendance twice a year.

In addition, COPR members—while participating in COPR activities—will have to agree to subordinate disease-specific or program-specific interests to broader, crosscutting matters of importance to the NIH in addition to being responsive to special charges from the NIH Director in priority issue areas. COPR members must also agree to represent as broad a “public viewpoint” as possible and to at least keep the spirit of this goal at the forefront during all COPR discussions and activities.

Please contact Palladian Partners, Inc., to have an application mailed to you or go on-line to http://public-council.nih.gov/COPRapplication.asp to access to COPR application instructions. The NIH Director's COPR staff is located in the Office of Communications and Public Liaison, Office of the Director, National Institutes of Health. Application packages postmarked after September 16, 2002 will be considered in the next year's application cycle, which will end in September 2003.

After applications are screened for completeness, they will be reviewed and scored by external reviewers who are familiar with the responsibilities of the COPR. The NIH Director will make the final selection of candidates with the goal of creating a Council that reflects the breadth and diversity of the public's interest in the NIH, and will take into consideration many varied factors, including age, gender, culture, and geography. We expect that candidates will be selected in January 2003.

Thank you for your interest in the COPR. We look forward to receiving your application packet.

Dated: July 18, 2002.
John Burklow,
Acting Associate Director for Communications, NIH.

[FR Doc. 02-18943 Filed 7-25-02; 8:45 am]

BILLING CODE 4140-01-M